DEPARTMENT OF THE INTERIOR

Fish and Wildlife Service

Notice of Availability of Draft Comprehensive Conservation Plan and Environmental Assessment for Salt Plains National Wildlife Refuge, Jet, OK

AGENCY: Fish and Wildlife Service, Department of the Interior.

ACTION: Notice of availability.

SUMMARY: The U.S. Fish and Wildlife Service (Service) announces that a Draft Comprehensive Conservation Plan (CCP) and Environmental Assessment (EA) for the Salt Plains National Wildlife Refuge (NWR) is available for review and comment. This CCP/EA, prepared pursuant to the National Wildlife Refuge System Administration Act of 1966, as amended by the National Wildlife Refuge System Improvement Act of 1997 (16 U.S.C. 668dd et seq.), and the National Environmental Policy Act of 1969 (42 U.S.C. 4321-4370d), describes how the Service intends to manage this refuge over the next 15 years.

DATES: Written comments must be received on or before January 20, 2006.

ADDRESSES: Send comments to Chris Perez, Biologist/Natural Resource Planner, U.S. Fish and Wildlife Service, Route 2, Box 202A, Alamo, Texas 78516, Telephone: 956-784-7553, Fax: 956-782-0641. Comments may also be sent via electronic mail to: Chris_Perez@fws.gov.

The draft CCP/EA is available on compact disk or hard copy, and may be obtained by writing, telephoning, faxing, or e-mailing Chris Perez at the above-listed address. In addition, the CCP/EA is available on the Internet at: http://www.fws.gov/southwest/refuges/Plan/index.html.

FOR FURTHER INFORMATION CONTACT: Chris Perez, Biologist/Natural Resource Planner, 956-784-7553 or Jon M. Brock, Refuge Manager, 580-626-4794.

SUPPLEMENTARY INFORMATION: Public Involvement: The draft CCP/EA is available for public review and comment for a period of 60 days from the date of publication. Copies of the document can be obtained as indicated in the ADDRESSES section. In addition, documents will be available for public inspection between the hours of 7:30 a.m.-4 p.m., Monday through Friday at the Salt Plains NWR Headquarters Office, 35 miles northwest of Enid, Oklahoma, off State Highway 38, and at the following libraries: Cherokee Public Library, 602 S. Grand Ave., Cherokee, OK 73728.

An open house to receive comments on the Draft CCP/EA will be held at the Salt Plains NWR Headquarters Office during the open comment period on January 12, 2006 from 2 p.m.-7 p.m. Special mailings, newspaper articles, and/or other media announcements will be used to inform the public of the date and time of the meeting.

All comments received from individuals become part of the official public record. Requests for such comments will be handled in accordance with the Freedom of Information Act and the Council on Environmental Quality's NEPA regulations [40 CFR 1506.6 (f)].

Background: The National Wildlife Refuge System Administration Act of 1966, as amended by the National Wildlife Refuge System Improvement Act of 1997 (16 U.S.C. 668dd-668ee et seq.), requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Salt Plains NWR was established “as a refuge and breeding grounds for birds,” by Executive Order No. 5314 on March 26, 1930. The authority of the Migratory Bird Conservation Act (16 U.S.C. 712d) establishes that each refuge is: “* * * for use as an inviolate sanctuary, or any other management purpose, for migratory birds.” The Refuge Recreation Act (16 U.S.C. 460-1) states that each refuge is “suitable for incidental fish and wildlife-oriented recreational development, the protection of natural resources, and the conservation of endangered or threatened species.” Additionally, Salt Plains NWR has been designated as critical habitat for the whooping crane (43 FR 20938, May 15, 1978).

Salt Plains NWR is located on the Salt Fork of the Arkansas River at the Great Salt Plains Lake in north-central Oklahoma. The confluence of several streams and rivers and the salt-encrusted plains produces a variety of unique wildlife habitats found nowhere else for hundreds of miles around. The 32,030-acre refuge is roughly equal parts of upland, open water, and salt flats, making it one of the most important migratory bird stopover, wintering, and nesting habitats in the Central Great Plains region. Three federally listed species use the refuge on a seasonal basis, and the refuge is also designated critical habitat for endangered whooping cranes. Federally threatened bald eagles winter on the refuge and endangered least terns nest in large numbers every year on the salt flats. Management efforts focus on protecting, enhancing, and restoring refuge habitats and water management for the benefit of important fish and wildlife resources.

The Draft CCP/EA addresses a range of topics, including habitat and wildlife management, water management, invasive species control, public use opportunities, and administration and staffing for the refuge. Important refuge issues and how they are addressed in the plan alternatives are summarized below. Alternative A is the current management, or what is currently offered, at the refuge. Alternative B is the proposed action. Under Alternative C, a greater emphasis on public uses such as all types of hunting, hiking, and necessary facilities, roads, and trails is proposed.

Habitat management activities: Alternative A: Habitat management such as prescribed fire, farming, moist soil management, invasive species control, or revegetation and maintenance projects would proceed to the extent that current base funding and staffing allows. Alternative B: The actions proposed in this alternative emphasize updated and integrated land management to progressively restore, maintain, and enhance native habitats for migratory birds, waterfowl, federally listed species, and resident wildlife. Alternative C: Habitat management would essentially be the same as Alternative A so that the refuge could focus more on public use opportunities.

Improvements to public use opportunities: Alternative A: The public use program would remain at current levels and no new facilities would be developed on the refuge. Alternative B: The public use program would increase and/or enhance educational and outreach activities, recreational opportunities (including expansion of waterfowl hunting areas), community involvement, and improvement of facilities and interpretive trails. Alternative C: The public use program would emphasize opening the refuge to all types of hunting and increase roads, trails, and facilities to meet the emphasis on all compatible public uses.

Refuge Land and Boundary Protection: Alternative A: There would be no acquisition and no exploration of possible refuge boundary expansion. Alternative B: Land protection would be accomplished through partnerships with adjacent owners. Any refuge boundary (none are currently proposed) expansion would only occur from willing sellers as a means to improve or protect important habitats that support accomplishment of species, habitat, and ecosystem goals and/or lands with high flood potential. Alternative C: Same as Alternative A.

Dated: August 18, 2005.
Larry G. Bell,
Acting Regional Director, U.S. Fish and Wildlife Service, Albuquerque, New Mexico.

[FR Doc. 05-22969 Filed 11-18-05; 8:45 am]

BILLING CODE 4310-55-P